DEPARTMENT OF DEFENSE

Office of the Secretary

Reserve Forces Policy Board (RFPB)

AGENCY: Office of the Secretary of Defense Reserve Forces Policy Board, DoD.

ACTION: Notice of advisory committee meeting.

SUMMARY: Pursuant to the Federal Advisory Committee Act of 1972 (5 U.S.C., Appendix, as amended), the Sunshine in the Government Act of 1976 (5 U.S.C. 552b, as amended), and 41 CFR 102-3.150, the Department of Defense announces that the Reserve Forces Policy Board (RFPB) will meet on March 30 and 31, 2010. Subject to the availability of space, this meeting is open to the public.

DATES: The meeting will be held on March 30 (from 8:30 a.m. to 4 p.m.) and on March 31 (from 8:30 a.m. to 2:30 p.m.), 2010.

ADDRESSES: The March 30 meeting will be held at the Fort Myer Officer's Club, Arlington, VA 22211. The March 31 meeting will be held at the Pentagon, Conference Room 3E863, Arlington, VA.

Written statements should be sent to: Reserve Forces Policy Board, 7300 Defense Pentagon, Washington, DC 20301-7300.

FOR FURTHER INFORMATION CONTACT: Col. Marjorie Davis, Designated Federal Officer, (703) 697-4486 (Voice), (703) 614-0504 (Facsimile), marjorie.davis@osd.mil or RFPB@osd.mil.

SUPPLEMENTARY INFORMATION:

Agenda

Consider health care for our reserve forces and the long range implications of a generation of young veterans.

Meeting Accessibility

Pursuant to 5 U.S.C. 552b, as amended, and 41 CFR 102-3.140 through 102-3.165, and the availability of space, this meeting is open to the public. To request a seat, contact the Designated Federal Officer not later than February 26, 2010, at 703-697-4486, or by e-mail, RFPB@osd.mil.

Written Statements

Pursuant to 41 CFR 102-3.105(j) and 102-3.140, the public or interested organizations may submit written statements to the membership of the RFPB at any time or in response to the stated agenda of a planned meeting. Written statements should be submitted to the Board's Designated Federal Officer (see ADDRESSES). The Designated Federal Officer's contact information can be obtained from the GSA's FACA Database— https://www.fido.gov/facadatabase/public.asp.

Written statements that do not pertain to a scheduled meeting of the RFPB may be submitted at any time. However, if individual comments pertain to a specific topic being discussed at a planned meeting, then these statements must be submitted no later than five business days prior to the meeting in question. The Designated Federal Officer will review all submitted written statements and provide copies to all the committee members.

Dated: January 27, 2010.
Mitchell S. Bryman,
Alternate OSD Federal Register Liaison Officer, Department of Defense.

[FR Doc. 2010-1960 Filed 1-29-10; 8:45 am]

BILLING CODE 5001-06-P